FEDERAL HOUSING FINANCE BOARD

[No. 2001-N-12]

Federal Home Loan Bank Members Selected for Community Support Review

AGENCY: Federal Housing Finance Board.

ACTION: Notice.

SUMMARY: The Federal Housing Finance Board (Finance Board) is announcing the Federal Home Loan Bank (Bank) members it has selected for the 2000-01 seventh quarter review cycle under the Finance Board's community support requirement regulation. This notice also prescribes the deadline by which Bank members selected for review must submit Community Support Statements to the Finance Board.

DATES: Bank members selected for the 2000-01 seventh quarter review cycle under the Finance Board's community support requirement regulation must submit completed Community Support Statements to the Finance Board on or before November 26, 2001.

ADDRESSES: Bank members selected for the 2000-01 seventh quarter review cycle under the Finance Board's community support requirement regulation must submit completed Community Support Statements to the Finance Board either by regular mail at the Office of Policy, Research and Analysis, Program Assistance Division, Federal Housing Finance Board, 1777 F Street, NW., Washington, DC 20006, or by electronic mail at fitzgeralde@fhfb.gov.

FOR FURTHER INFORMATION CONTACT: Emma J. Fitzgerald, Program Analyst, Office of Policy, Research and Analysis, Program Assistance Division, by telephone at 202/408-2874, by electronic mail at fitzgeralde@fhfb.gov, or by regular mail at the Federal Housing Finance Board, 1777 F Street, NW., Washington, DC 20006. A telecommunications device for deaf persons (TDD) is available at 202/408-2579.

SUPPLEMENTARY INFORMATION:

I. Selection for Community Support Review

Section 10(g)(1) of the Federal Home Loan Bank Act (Bank Act) requires the Finance Board to promulgate regulations establishing standards of community investment or service Bank members must meet in order to maintain access to long-term advances. See 12 U.S.C. 1430(g)(1). The regulations promulgated by the Finance Board must take into account factors such as the Bank member's performance under the Community Reinvestment Act of 1977 (CRA), 12 U.S.C. 2901 et seq., and record of lending to first-time homebuyers. See 12 U.S.C. 1430(g)(2). Pursuant to the requirements of section 10(g) of the Bank Act, the Finance Board has promulgated a community support requirement regulation that establishes standards a Bank member must meet in order to maintain access to long-term advances, and review criteria the Finance Board must apply in evaluating a member's community support performance. See 12 CFR part 944. The regulation includes standards and criteria for the two statutory factors—CRA performance and record of lending to first-time homebuyers. 12 CFR 944.3. Only members subject to the CRA must meet the CRA standard. 12 CFR 944.3(b). All members, including those not subject to CRA, must meet the first-time homebuyer standard. 12 CFR 944.3(c).

Under the rule, the Finance Board selects approximately one-eighth of the members in each Bank district for community support review each calendar quarter. 12 CFR 944.2(a). The Finance Board will not review an institution's community support performance until it has been a Bank member for at least one year. Selection for review is not, nor should it be construed as, any indication of either the financial condition or the community support performance of the member.

Each Bank member selected for review must complete a Community Support Statement and submit it to the Finance Board by the November 26, 2001 deadline prescribed in this notice. 12 CFR 944.2(b)(1)(ii) and (c). On or before October 26, 2001, each Bank will notify the members in its district that have been selected for the 2000-01 seventh quarter community support review cycle that they must complete and submit to the Finance Board by the deadline a Community Support Statement. 12 CFR 944.2(b)(2)(i). The member's Bank will provide a blank Community Support Statement Form, which also is available on the Finance Board's web site: www.fhfb.gov. Upon request, the member's Bank also will provide assistance in completing the Community Support Statement.

The Finance Board has selected the following members for the 2000-01 seventh quarter community support review cycle:

Member | City | State
Federal Home Loan Bank of Boston—District 1
American Savings Bank | New Britain | Connecticut
Eastern Savings and Loan Association | Norwich | Connecticut
Putnam Savings Bank | Putnam | Connecticut
Merrill Merchants Bank | Bangor | Maine
Seaboard Federal Credit Union | Bucksport | Maine
Union Trust Company | Ellsworth | Maine
NorState Federal Credit Union | Medawaska | Maine
Norway Savings Bank | Norway | Maine
University Credit Union | Orono | Maine
Infinity Federal Credit Union | Portland | Maine
Maine Bank & Trust Company | Portland | Maine
Belmont Savings Bank | Belmont | Massachusetts
Enterprise Bank and Trust Company | Lowell | Massachusetts
The Lenox National Bank | Lenox | Massachusetts
Butler Bank | Lowell | Massachusetts
Northmark Bank | North Andover | Massachusetts
RTN Federal Credit Union | Waltham | Massachusetts
Westborough Savings Bank | Westborough | Massachusetts
Commerce Bank and Trust Company | Worcester | Massachusetts
New England Federal Credit Union | Williston | Vermont
Federal Home Loan Bank of New York—District 2
MIIX Insurance Company | Lawrenceville | New Jersey
Millville Savings and Loan Association | Millville | New Jersey
Cenlar FSB | Trenton | New Jersey
Hamilton Savings Bank | Union City | New Jersey
Llewellyn-Edison Savings Bank, F.S.B | West Orange | New Jersey
SEFCU, A Federal Credit Union | Albany | New York
Cortland Savings Bank | Cortland | New York
Flushing Savings Bank, F.S.B | Flushing | New York
Gouverneur Savings & Loan Association | Gouverneur | New York
WCTA Federal Credit Union | Sodus | New York
Power Federal Credit Union | Syracuse | New York
Wyoming County Bank | Warsaw | New York
Community Mutual Savings Bank | White Plains | New York
Hudson Valley Bank | Yonkers | New York
Firstbank—Puerto Rico | Santurce | Puerto Rico
Federal Home Loan Bank of Pittsburgh—District 3
Lehman Brothers Bank, FSB | Wilmington | Delaware
Wilmington Trust FSB | Wilmington | Delaware
AIG Federal Savings Bank | Wilmington | Delaware
First Columbia Bank & Trust Company | Bloomsburg | Pennsylvania
Fidelity Savings and LA of Bucks County | Bristol | Pennsylvania
Citizens Savings Association | Clarks Summit | Pennsylvania
CSB Bank | Curwensville | Pennsylvania
The Fidelity Deposit & Discount Bank | Dunmore | Pennsylvania
The First National Bank in Fleetwood | Fleetwood | Pennsylvania
Swineford National Bank | Hummels Wharf | Pennsylvania
S&T Bank | Indiana | Pennsylvania
Jonestown Bank and Trust Company | Jonestown | Pennsylvania
Commercial National Bank of Pennsylvania | Latrobe | Pennsylvania
Lafayette Ambassador Bank | LeHigh Valley | Pennsylvania
Farmers First Bank | Lititz | Pennsylvania
Members First Federal Credit Union | Mechanicsburg | Pennsylvania
The First National Bank of Mercersburg | Mercersburg | Pennsylvania
Juniata Valley Bank | Mifflintown | Pennsylvania
Mid Penn Bank | Millersburg | Pennsylvania
Three Rivers Bank and Trust Company | Monroeville | Pennsylvania
Royal Bank of Pennsylvania | Narberth | Pennsylvania
Atlantic Federal Credit Union | Newtown Square | Pennsylvania
The Peoples Bank of Oxford | Oxford | Pennsylvania
Port Richmond Savings | Philadelphia | Pennsylvania
Dwelling House Savings and Loan Association | Pittsburgh | Pennsylvania
First Pennsylvania Savings Association | Pittsburgh | Pennsylvania
Stanton Federal Savings Bank | Pittsburgh | Pennsylvania
Union Bank and Trust Company | Pottsville | Pennsylvania
Citadel Federal Credit Union | Thorndale | Pennsylvania
The Turbotville National Bank | Turbotville | Pennsylvania
Merck, Sharp & Dohme Federal Credit Union | West Point | Pennsylvania
Woodlands Bank | Williamsport | Pennsylvania
The United Federal Credit Union | Morgantown | West Virginia
Jefferson Security Bank, | Shepherdstown | West Virginia
Steel Works Community Federal Credit Union | Weirton | West Virginia
Federal Home Loan Bank of Atlanta—District 4
Compass Bank | Birmingham | Alabama
National Bank of Commerce of Birmingham | Birmingham | Alabama
First National Bank of Shelby County | Columbiana | Alabama
Bank of Dadeville | Dadeville | Alabama
The Peoples Bank of Coffee County | Elba | Alabama
First Southern Bank | Florence | Alabama
Citizens Bank & Savings Company | Russellville | Alabama
Troy Bank and Trust Company | Troy | Alabama
Security Bank | Tuscaloosa | Alabama
State Bank and Trust | Winfield | Alabama
IDB—IIC Federal Credit Union | Washington | D.C.
United States Senate | Washington | D.C.
Gibraltar Bank FSB | Coral Gables | Florida
Merchants and Southern Bank | Gainesville | Florida
Community Savings, F.A. | North Palm Beach | Florida
Ocala National Bank | Ocala | Florida
U.S. Trust Company of Florida, S.B | Palm Beach | Florida
J.P. Morgan, FSB | Palm Beach | Florida
Bankers Insurance | St. Petersburg | Florida
Suncoast Schools Federal Credit Union | Tampa | Florida
Southern Exchange Bank | Tampa | Florida
Citrus Bank, N.A | Vero Beach | Florida
First Choice Credit Union | West Palm Beach | Florida
CDC Federal Credit Union | Atlanta | Georgia
Bank of Camilla | Camilla | Georgia
Rabun County Bank | Clayton | Georgia
Planters First | Cordele | Georgia
First State Bank of Donalsonville | Donalsonville | Georgia
Colony Bank of Dodge County | Eastman | Georgia
The Gordon Bank | Gordon | Georgia
Citizens Community Bank | Hahira | Georgia
Georgia State Bank | Mableton | Georgia
Century South Bank, N.A | Macon | Georgia
The United Banking Company | Nashville | Georgia
The Patterson Bank | Patterson | Georgia
Pelham Banking Company | Pelham | Georgia
The Bank of Perry | Perry | Georgia
United Bank and Trust Company | Rockmart | Georgia
The Savannah Bank, N.A | Savannah | Georgia
Century South Bank of the Coastal Region, N.A | Savannah | Georgia
The Park Avenue Bank | Valdosta | Georgia
Flag Bank | Vienna | Georgia
Oconee State Bank | Watkinsville | Georgia
Atlantic Coast Federal | Waycross | Georgia
The First National Bank of Waynesboro | Waynesboro | Georgia
Kosciuszko Federal Savings Bank | Baltimore | Maryland
Midstate Federal Savings & Loan Association | Baltimore | Maryland
Fullerton Federal Savings Association | Baltimore | Maryland
Bradford Federal Savings Bank | Baltimore | Maryland
Johns Hopkins Federal | Baltimore | Maryland
First Mariner Bank | Baltimore | Maryland
The Centreville National Bank of Maryland | Centreville | Maryland
The Columbia Bank | Columbia | Maryland
County Banking and Trust Company | Elkton | Maryland
The Bank of Glen Burnie | Glen Burnie | Maryland
Cedar Point Federal Credit Union | Lexington Park | Maryland
Sandy Spring National Bank of Maryland | Olney | Maryland
BUCS Federal | Owings Mills | Maryland
Peninsula Bank | Princess Anne | Maryland
The Sparks State Bank | Sparks | Maryland
Prince Georges Federal Savings Bank | Upper Marlboro | Maryland
Belmont Federal Savings and Loan Association | Belmont | North Carolina
Black Mountain Savings Bank, SSB | Black Mountain | North Carolina
Morganton Federal Savings & Loan Association | Morganton | North Carolina
Coastal Federal Credit Union | Raleigh | North Carolina
Security Savings Bank, SSB | Southport | North Carolina
Bank of North Carolina | Thomasville | North Carolina
Carolina State Bank | Chesnee | South Carolina
Clover Community Bank | Clover | South Carolina
The Peoples National Bank | Easley | South Carolina
Carolina First Bank | Greenville | South Carolina
Lighthouse Community Bank | Hilton Head Island | South Carolina
Williamsburg First National Bank | Kingstree | South Carolina
Arthur State Bank | Union | South Carolina
Provident Community Bank | Union | South Carolina
Pinnacle State Bank | Woodruff | South Carolina
Union Bank & Trust Company | Bowling Green | Virginia
The First National Bank of Christianburg | Christiansburg | Virginia
The National Bank of Fredericksburg | Fredericksburg | Virginia
The Bank of McKenney | McKenney | Virginia
Greater Atlantic Savings Bank | Reston | Virginia
Farmers and Merchants Bank | Timberville | Virginia
Southern Financial Bank | Warrenton | Virginia
Federal Home Loan Bank of Cincinnati—District 5
Union National Bank and Trust Company | Barbourville | Kentucky
Bank of Benton | Benton | Kentucky
Taylor County Bank | Campbellsville | Kentucky
First Federal Savings Bank | Elizabethtown | Kentucky
City National Bank | Fulton | Kentucky
Commonwealth Community Bank | Hartford | Kentucky
The Citizens Bank | Hickman | Kentucky
First State Bank | Irvington | Kentucky
First Federal Bank | Lexington | Kentucky
Whitaker Bank N.A | Lexington | Kentucky
Cumberland Valley NB&T Company | London | Kentucky
Inez Deposit Bank FSB | Louisa | Kentucky
Green River Bank | Morgantown | Kentucky
Citizens Bank of New Liberty | New Liberty | Kentucky
Citizens National Bank of Paintsville | Paintsville | Kentucky
West Point Bank | Radcliff | Kentucky
Sebree Deposit Bank | Sebree | Kentucky
Shelby County Trust Bank | Shelbyville | Kentucky
The Peoples Bank | Taylorsville | Kentucky
United Bank and Trust Company | Versailles | Kentucky
The Farmers & Merchants State Bank | Archbold | Ohio
The Citizens Bank of Ashville | Ashville | Ohio
The Caldwell Savings and Loan Company | Caldwell | Ohio
CINCO Federal Credit Union | Cincinnati | Ohio
Century Federal Credit Union | Cleveland | Ohio
Pioneer Savings Bank | Cleveland | Ohio
Clyde-Findley Area Credit Union | Clyde | Ohio
First Federal S&LA of Delta | Delta | Ohio
Ohio Central Savings | Dublin | Ohio
The Croghan Colonial Bank | Fremont | Ohio
First Service Federal Credit Union | Groveport | Ohio
The Killbuck Savings Bank Company | Killbuck | Ohio
OC Federal Credit Union | Maumee | Ohio
The Old Fort Banking Company | Old Fort | Ohio
Cornerstone Bank | Springfield | Ohio
Peoples Savings Bank of Troy | Troy | Ohio
The First National Bank of Wellston | Wellston | Ohio
The Metropolitan National Bank | Youngstown | Ohio
First Federal Savings Bank | Clarksville | Tennessee
The Bank/First Citizens Bank | Cleveland | Tennessee
Peoples Bank | Clifton | Tennessee
Bank of Dickson | Dickson | Tennessee
The Home Bank fsb | Ducktown | Tennessee
Security Bank | Dyersburg | Tennessee
Greeneville Federal Bank, FSB | Greeneville | Tennessee
Citizens Bank | Hartsville | Tennessee
Citizens Bank of Blount County | Maryville | Tennessee
National Bank of Commerce | Memphis | Tennessee
ORNL Federal Credit Union | Oak Ridge | Tennessee
The Bank of Sharon | Sharon | Tennessee
Merchants and Planters Bank | Toone | Tennessee
AEDC Federal Credit Union | Tullahoma | Tennessee
First State Bank | Union City | Tennessee
Federal Home Loan Bank of Indianapolis—District 6
Star Financial Bank | Anderson | Indiana
First Community Bank and Trust | Bargersville | Indiana
Hendricks County Bank and Trust Company | Brownsburg | Indiana
First Farmers Bank and Trust | Converse | Indiana
1st National Bank of Dana | Dana | Indiana
Professional Federal Credit Union | Fort Wayne | Indiana
Springs Valley Bank and Trust Company | French Lick | Indiana
Garrett State Bank | Garrett | Indiana
Griffith Savings Bank | Griffith | Indiana
Eli Lilly Federal Credit Union | Indianapolis | Indiana
Indiana Members Credit Union | Indianapolis | Indiana
First National Bank & Trust | Kokomo | Indiana
Dearborn Savings Association, F.A. | Lawrenceburg | Indiana
Farmers State Bank | Mentone | Indiana
The North Salem State Bank | North Salem | Indiana
Tri-County Bank & Trust Company | Roachdale | Indiana
Central Bank | Russiaville | Indiana
Teachers Credit Union | South Bend | Indiana
Bank of Lenawee | Adrian | Michigan
University Bank | Ann Arbor | Michigan
Blissfield State Bank | Blissfield | Michigan
Byron Center State Bank | Byron Center | Michigan
CSB Bank | Capac | Michigan
Independent Bank East Michigan | Caro | Michigan
Exchange State Bank | Carsonville | Michigan
First National Bank | Crystal Falls | Michigan
State Savings Bank | Frankfort | Michigan
First National Bank of Gaylord | Gaylord | Michigan
First Community Bank | Harbor Springs | Michigan
Republic Bank | Lansing | Michigan
G.W. Jones Exchange Bank | Marcellus | Michigan
Shelby State Bank | Shelby | Michigan
ChoiceOne Bank | Sparta | Michigan
Midwest Guaranty Bank | Troy | Michigan
Federal Home Loan Bank of Chicago—District 7
State Bank of the Lakes | Antioch | Illinois
First National Bank | Ava | Illinois
Town & Country Bank | Buffalo | Illinois
Farmers State Bank of Hoffman | Centralia | Illinois
American Union Savings and Loan Association | Chicago | Illinois
Cole Taylor Bank | Chicago | Illinois
First Bank of the Americas, S.S.B | Chicago | Illinois
First East Side Savings Bank | Chicago | Illinois
International Bank of Chicago | Chicago | Illinois
LaSalle Bank, NA | Chicago | Illinois
Park Federal Savings Bank | Chicago | Illinois
The PrivateBank and Trust Company | Chicago | Illinois
Selfreliance Ukranian Federal Credit Union | Chicago | Illinois
First National Bank | Chicago Heights | Illinois
Cissna Park State Bank | Cissna Park | Illinois
GreatBank, A National Association | Evanston | Illinois
The Peoples National Bank of McLeansboro | Fairfield | Illinois
UnionBank/Northwest | Hanover | Illinois
National Bank | Hillsboro | Illinois
Community Trust Bank | Irvington | Illinois
First Midwest Bank, N.A | Itasca | Illinois
Advance Bank | Lansing | Illinois
Midwest Bank of Western Illinois | Monmouth | Illinois
The Bank of Illinois in Normal | Normal | Illinois
Hemlock Federal Bank | Oak Forest | Illinois
Community Bank & Trust, NA | Olney | Illinois
Palos Bank and Trust Company | Palos Heights | Illinois
Citizens Equity Federal Credit Union | Peoria | Illinois
Pontiac National Bank | Pontiac | Illinois
Household Bank, f.s.b | Prospect Heights | Illinois
First Bankers Trust Company N.A | Quincy | Illinois
AMCORE Bank N.A | Rockford | Illinois
The First National Bank in Toledo | Toledo | Illinois
Busey Bank | Urbana | Illinois
Fox Communities Credit Union | Appleton | Wisconsin
Peoples State Bank | Augusta | Wisconsin
The First National B&T Company of Beloit | Beloit | Wisconsin
Citizens State Bank | Cadott | Wisconsin
Bank of Buffalo | Cochrane | Wisconsin
Denmark State Bank | Denmark | Wisconsin
Security National Bank | Durand | Wisconsin
Union Bank and Trust Company | Evansville | Wisconsin
1st Security Credit Union | Green Bay | Wisconsin
Johnson Bank Hayward | Hayward | Wisconsin
State Bank of Howards Grove | Howards Grove | Wisconsin
State Bank of La Crosse | La Crosse | Wisconsin
Trane Federal Credit Union | La Crosse | Wisconsin
Capitol Bank | Madison | Wisconsin
The Park Bank | Madison | Wisconsin
Premier Community Bank | Marion | Wisconsin
Bay View Federal Savings & Loan Association | Milwaukee | Wisconsin
Farmers Savings Bank | Mineral Point | Wisconsin
Bank of Mondovi | Mondovi | Wisconsin
The Necedah Bank | Necedah | Wisconsin
Farmers Exchange Bank of Neshkoro | Neshkoro | Wisconsin
Hometown Bank | St. Cloud | Wisconsin
Community State Bank | Union Grove | Wisconsin
American Community Bank | Wausau | Wisconsin
Federal Home Loan Bank of Des Moines—District 8
Union National Bank | Anita | Iowa
Quad City Bank and Trust | Bettendorf | Iowa
Exchange State Bank | Collins | Iowa
Security Savings Bank | Eagle Grove | Iowa
Iowa State Bank & Trust of Fairfield | Fairfield | Iowa
First Bank and Trust Company | Glidden | Iowa
American National Bank | Holstein | Iowa
Home State Bank | Jefferson | Iowa
Security Savings Bank | Larchwood | Iowa
Farmers & Merchants Savings Bank | Manchester | Iowa
First Citizens National Bank | Mason City | Iowa
Northwoods State Bank | Mason City | Iowa
First Iowa Bank | Monticello | Iowa
Pilot Grove Savings Bank | Pilot Grove | Iowa
Frontier Bank | Rock Rapids | Iowa
Alliance Bank | Rockwell City | Iowa
Citizens State Bank | Sheldon | Iowa
The First National Bank of Farragut | Shenandoah | Iowa
Morningside Bank & Trust | Sioux City | Iowa
Cedar Valley State Bank | St. Ansgar | Iowa
Tama State Bank | Tama | Iowa
First American Bank | Webster City | Iowa
First Bank | West Des Moines | Iowa
NCMIC Insurance Company | West Des Moines | Iowa
Security Bank Minnesota | Albert Lea | Minnesota
First Security Bank | Byron | Minnesota
Miners National Bank of Eveleth | Eveleth | Minnesota
American Bank of the North | Grand Rapids | Minnesota
National City Bank of Minneapolis | Minneapolis | Minnesota
State Bank of Young America | Norwood Young America | Minnesota
Peoples State Bank of Plainview | Plainview | Minnesota
United Prairie Bank-Slayton | Slayton | Minnesota
First Security Bank | Sleepy Eye | Minnesota
Cherokee State Bank | St. Paul | Minnesota
The First National Bank in Wadena | Wadena | Minnesota
Wadena State Bank | Wadena | Minnesota
Boonslick Bank | Boonville | Missouri
First Security State Bank of Charleston | Charleston | Missouri
Peoples Bank | Cuba | Missouri
Century Bank of the Ozarks | Gainesville | Missouri
The Hamilton Bank | Hamilton | Missouri
Farmers and Merchants Bank | Hannibal | Missouri
Premier Bank | Jefferson City | Missouri
B&L Bank | Lexington | Missouri
First Bank CBC | Maryville | Missouri
Bank of Minden | Mindenmines | Missouri
Bank of Cairo and Moberly | Moberly | Missouri
St. Clair County State Bank | Osceola | Missouri
Platte Valley Bank of Missouri | Platte City | Missouri
Farmers State Bank of Northern Missouri | Savannah | Missouri
Central Bank of Missouri | Sedalia | Missouri
Great Southern Bank | Springfield | Missouri
Mid-Missouri Bank | Springfield | Missouri
Community First National Bank | Fargo | North Dakota
Gate City Bank | Fargo | North Dakota
State Bank of Alcester | Alcester | South Dakota
First American Bank & Trust | Madison | South Dakota
Federal Home Loan Bank of Dallas—District 9
First National Bank of Izard County | Calico Rock | Arkansas
Community Bank of North Arkansas | Elkins | Arkansas
First Federal Bank of Arkansas F.A. | Harrison | Arkansas
Simmons First Bank of Jonesboro | Jonesboro | Arkansas
Central Bank and Trust | Little Rock | Arkansas
Simmons First Bank of Russellville | Russellville | Arkansas
Warren Bank and Trust Company | Warren | Arkansas
Mississippi River Bank | Belle Chasse | Louisiana
Citizens Savings Bank | Bogalusa | Louisiana
Homeland Federal Savings Bank | Columbia | Louisiana
Vermilion Bank and Trust Company Inc. | Kaplan | Louisiana
People State Bank | Many | Louisiana
City Bank and Trust Company | Natchitoches | Louisiana
First Bank and Trust | New Orleans | Louisiana
First Federal Savings & Loan Association | Opelousas | Louisiana
ANECA Federal Credit Union | Shreveport | Louisiana
The Federal Savings Bank of Evangeline Parish | Ville Platte | Louisiana
Bank of Anguilla | Anguilla | Mississippi
Guaranty Bank & Trust Company | Belzoni | Mississippi
The Carthage Bank | Carthage | Mississippi
First National Bank of Clarksville | Clarksdale | Mississippi
Bank of Forest | Forest | Mississippi
Hancock Bank | Gulfport | Mississippi
Merchants and Farmers Bank | Kosciusko | Mississippi
Citizens State Bank | Magee | Mississippi
First National Bank of Picayune | Picayune | Mississippi
The Peoples Bank | Ripley | Mississippi
First National Bank in Alamogordo | Alamogordo | New Mexico
First State Bank of Taos | Albuquerque | New Mexico
New Mexico Educators Federal Credit Union | Albuquerque | New Mexico
Ranchers Banks | Belen | New Mexico
FirstBank | Clovis | New Mexico
University Federal Credit Union | Austin | Texas
Citizens National Bank of Brownwood | Brownwood | Texas
Columbus State Bank | Columbus | Texas
Lone Star Bank | Dallas | Texas
Mainbank, N.A | Dallas | Texas
Texas Community Bank and Trust, N.A | Dallas | Texas
Share Plus Federal Credit Union | Dallas | Texas
Millers Fire Insurance Company | Fort Worth | Texas
Graham Savings and Loan, F.A. | Graham | Texas
P.T.&T. Federal Credit Union | Houston | Texas
Jacksonville Savings Bank, SSB | Jacksonville | Texas
American State Bank | Lubbock | Texas
Marble Falls National Bank | Marble Falls | Texas
First Bank and Trust of Memphis | Memphis | Texas
Liberty National Bank in Paris | Paris | Texas
Security State Bank | Pearsall | Texas
Hale County State Bank | Plainview | Texas
First International Bank | Plano | Texas
Legacy Bank of Texas | Plano | Texas
First National Bank of San Benito | San Benito | Texas
Texas Savings Bank, s.s.b | Snyder | Texas
Mainland Bank | Texas City | Texas
First Bank of Texas | Tomball | Texas
The First National Bank of Van Alstyne | Van Alstyne | Texas
The Herring National Bank | Vernon | Texas
Community Bank | Wellington | Texas
Federal Home Loan Bank of Topeka—District 10
Bank of Colorado | Fort Lupton | Colorado
Alpine Bank | Glenwood Springs | Colorado
First Western National Bank | La Jara | Colorado
First National Bank of Las Animas | Las Animas | Colorado
FirstBank of Arapahoe County | Littleton | Colorado
Mancos Valley Bank | Mancos | Colorado
The Pueblo Bank and Trust Company | Pueblo | Colorado
High Country Bank | Salida | Colorado
Community National Bank | Chanute | Kansas
Fidelity State Bank and Trust Company | Dodge City | Kansas
Armed Forces Bank, NA | Fort Leavenworth | Kansas
Kansas State Bank | Holton | Kansas
Heartland Bank, N.A | Jewell | Kansas
First National Bank and Trust Company | Junction City | Kansas
First State Bank of Kansas City, Kansas | Kansas City | Kansas
Premier Bank | Lenexa | Kansas
Enterprise Banking, NA | Overland | Kansas
Metcalf Bank | Overland Park | Kansas
Team Bank, N.A | Paola | Kansas
Community National Bank | Seneca | Kansas
Mid American Credit Union | Wichita | Kansas
Five Points Bank | Grand Island | Nebraska
City National Bank and Trust Company | Hastings | Nebraska
First State Bank | Hickman | Nebraska
First National Bank and Trust Company | Minden | Nebraska
FCE Credit Union | Omaha | Nebraska
Plattsmouth State Bank | Plattsmouth | Nebraska
The Jones National Bank and Trust Company | Seward | Nebraska
First National Bank of Wahoo | Wahoo | Nebraska
First National Bank and Trust Company of Ada | Ada | Oklahoma
Alva State Bank & Trust Company | Alva | Oklahoma
Community National Bank | Alva | Oklahoma
American National Bank | Ardmore | Oklahoma
First Bethany Bank & Trust, N.A | Bethany | Oklahoma
Federal BankCentre | Broken Arrow | Oklahoma
Farmers and Merchants Bank | Crescent | Oklahoma
The Eastman National Bank of Newkirk | Newkirk | Oklahoma
Oklahoma Employees Credit Union | Oklahoma City | Oklahoma
The First National B&TC of Okmulgee | Okmulgee | Oklahoma
First State Bank | Picher | Oklahoma
F&M Bank NA | Piedmont | Oklahoma
McClain Bank NA | Purcell | Oklahoma
Tinker Federal Credit Union | Tinker AFB | Oklahoma
Oklahoma Central Credit Union | Tulsa | Oklahoma
SpiritBank | Tulsa | Oklahoma
Welch State Bank | Welch | Oklahoma
Federal Home Loan Bank of San Francisco—District 11
Humboldt Bank | Eureka | California
Six Rivers National Bank | Eureka | California
Cathay Bank | Los Angeles | California
General Bank | Los Angeles | California
F&A Federal Credit Union | Monterey Park | California
Stanford Federal Credit Union | Palo Alto | California
CBC Federal Credit Union | Port Hueneme | California
Gateway Bank, A F.S.B | San Francisco | California
First Bank of San Luis Obispo | San Luis Obispo | California
Chinatrust Bank (U.S.A.) | Torrance | California
Visalia Community Bank | Visalia | California
Federal Home Loan Bank of Seattle—District 12
City Bank | Honolulu | Hawaii
Hawaii USA Federal Credit Union | Honolulu | Hawaii
Citizens State Bank | Hamilton | Montana
Mountain West Bank of Kalispell, N.A | Kalispell | Montana
Valley Bank of Kalispell | Kalispell | Montana
First National Bank of Montana | Missoula | Montana
First Technology Credit Union | Beaverton | Oregon
Bank of the Cascades | Bend | Oregon
Siuslaw Valley Bank | Florence | Oregon
Portland Area Community Employees CU | Portland | Oregon
Umpqua Bank | Roseburg | Oregon
Clackamas County Bank | Sandy | Oregon
Bank of Utah | Ogden | Utah
Goldenwest Credit Union | Ogden | Utah
Heritage Bank | St. George | Utah
North County Bank | Arlington | Washington
Industrial Credit Union of Whatcom County | Bellingham | Washington
Cashmere Valley Bank | Cashmere | Washington
Mt. Rainier National Bank | Enumclaw | Washington
Grant National Bank | Ephrata | Washington
EverTrust Bank | Everett | Washington
NorthWest Plus Credit Union | Everett | Washington
NW Federal Credit Union | Seattle | Washington
Seattle Telco Federal CU | Seattle | Washington
First Heritage Bank | Snohomish | Washington
Horizon Credit Union | Spokane | Washington
Rainier Pacific Bank | Tacoma | Washington
American National Bank of Cheyenne | Cheyenne | Wyoming
The Bank of Laramie | Laramie | Wyoming
First Federal Savings Bank | Sheridan | Wyoming

II. Public Comments

To encourage the submission of public comments on the community support performance of Bank members, on or before October 26, 2001, each Bank will notify its Advisory Council and nonprofit housing developers, community groups, and other interested parties in its district of the members selected for community support review in the 2000-01 seventh quarter review cycle. 12 CFR 944.2(b)(2)(ii). In reviewing a member for community support compliance, the Finance Board will consider any public comments it has received concerning the member. 12 CFR 944.2(d). To ensure consideration by the Finance Board, comments concerning the community support performance of members selected for the 2000-01 seventh quarter review cycle must be delivered to the Finance Board on or before the November 26, 2001 deadline for submission of Community Support Statements.

By the Federal Housing Finance Board.
Dated: October 1, 2001.
James L. Bothwell,
Managing Director.

[FR Doc. 01-24948 Filed 10-12-01; 8:45 am]

BILLING CODE 6725-01-P